DEPARTMENT OF HOMELAND SECURITY

U.S. Immigration and Customs Enforcement, Department of Homeland Security.

[OMB Control Number 1653-0037]

Agency Information Collection Activities: Extension, Without Change, of a Currently Approved Collection: Notice to Student or Exchange Visitor

AGENCY: U.S. Immigration and Customs Enforcement, Department of Homeland Security.

ACTION: 30-Day notice.

SUMMARY: In accordance with the Paperwork Reductions Act (PRA) of 1995 the Department of Homeland Security (DHS), U.S. Immigration and Customs Enforcement (ICE) will submit the following Information Collection Request (ICR) to the Office of Management and Budget (OMB) for review and clearance. This information collection was previously published in the Federal Register on April 28, 2022, allowing for a 60-day comment period. The activity was labeled as a revision however ICE is not modifying the existing form or information received. The purpose of this notice is to allow an additional 30 days for public comments.

DATES: Comments are encouraged and will be accepted until August 17, 2022.

ADDRESSES: Written comments and recommendations for the proposed information collection should be sent within 30 days of the publication of this notice to www.reginfo.gov/public/do/PRAMain. Find this particular information collection by selecting “Currently under 30-day Review—Open for Public Comments” or by using the search function.

FOR FURTHER INFORMATION CONTACT: For specific questions related to collection activities, please contact or email Sharon Snyder, Unit Chief, Policy and Response Unit, Student and Exchange Visitor Program, email: sevp@ice.dhs.gov, telephone:703-603-3400. This is not a toll-free number

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: Notice to Student or Exchange Visitor.

(3) Agency form number, if any, and the applicable component of the Department of Homeland Security sponsoring the collection: I-515A; U.S. Immigration and Customs Enforcement

(4) Affected public who will be asked or required to respond, as well as a brief abstract: Primary: Individuals or Households. When an academic student (F-1), vocational student (M-1), exchange visitor (J-1), or dependent (F-2, M-2 or J-2) is admitted to the United States as a nonimmigrant alien under section 101(a)(15) of the Immigration and Nationality Act (Act), he or she is required to have certain documentation. If the student or exchange visitor or dependent is missing documentation, he or she is provided with the Form I-515A, Notice to Student or Exchange Visitor. The Form I-515A provides a list of the documentation the student or exchange visitor or dependent will need to provide to the Department of Homeland Security (DHS), Student and Exchange Visitor Program (SEVP) office within 30 days of admission.

(5) An estimate of the total number of respondents and the amount of time estimated for an average respondent to respond: 1,459 responses at 25 minutes (.416 hours) per response

(6) An estimate of the total public burden (in hours) associated with the collection: The total estimated annual burden is 608 hours.

Dated: July 12, 2022.
Scott Elmore,
PRA Clearance Officer.

[FR Doc. 2022-15211 Filed 7-15-22; 8:45 am]

BILLING CODE 9111-28-P